DEPARTMENT OF HOMELAND SECURITY

U.S. Customs and Border Protection

[Docket No. USCBP-2016-0016]

Termination of the Advisory Committee on Commercial Operations to U.S. Customs and Border Protection; Establishment of the Commercial Customs Operations Advisory Committee

AGENCY: U.S. Customs and Border Protection, Department of Homeland Security.

ACTION: Committee management; notice of termination of the Advisory Committee on Commercial Operations to U.S. Customs and Border Protection and establishment of the Commercial Customs Operations Advisory Committee.

SUMMARY: This notice announces the termination of the Advisory Committee on Commercial Operations to U.S. Customs and Border Protection and the establishment of the Commercial Customs Operations Advisory Committee.

Background: Section 9503(c) of the Omnibus Budget Reconciliation Act of 1987, Pub.L. 100-203, Title IX, Subtitle F, § 9503(c), 101 Stat. 1330, 1330-381 (1987) (codified at 19 U.S.C. 2071 note), which established what is now the Advisory Committee on Commercial Operations to U.S. Customs and Border Protection, was repealed by section 109 of the Trade Facilitation and Trade Enforcement Act of 2015 (Pub.L. 114-125). Accordingly, the Advisory Committee on Commercial Operations to U.S. Customs and Border Protection is terminated. Section 109 also provides for the establishment of the Commercial Customs Operations Advisory Committee.

Establishment of a Commerical Customs Operations Advisory Committee: Section 109 of the Trade Facilitation and Trade Enforcement Act of 2015 (the Act) states, the Secretary of the Treasury and the Secretary of Homeland Security shall jointly establish a Commercial Customs Operations Advisory Committee (COAC). The COAC shall be comprised of 20 members, the Assistant Secretary for Tax Policy of the Department of the Treasury and the Commissioner, who shall jointly co-chair meetings of the COAC, and the Assistant Secretary for Policy of the Department of Homeland Security and the Director of U.S. Immigration and Customs Enforcement, who shall serve as deputy co-chairs of meetings of the COAC.

The COAC members shall be appointed by the Secretary of the Treasury and the Secretary of Homeland Security. The membership is representative of individuals and firms affected by the commercial operations of U.S. Customs and Border Protection (CBP) and without regard to political affiliation. Each individual appointed to the COAC shall be appointed for a term of not more than 3 years, and may be reappointed to subsequent terms, but may not serve more than 2 terms sequentially. The Secretary of the Treasury and the Secretary of Homeland Security may transfer members serving on what is now the Advisory Committee on Commercial Operations, established under section 9503(c) of the Omnibus Budget Reconciliation Act of 1987 (19 U.S.C. 2071 note) on the day before the date of the enactment of the Act to the Commercial Customs Operations Advisory Committee.

The COAC shall advise the Secretaries of the Department of the Treasury and the Department of Homeland Security on all matters involving the commercial operations of CBP, including advising with respect to significant changes that are proposed with respect to regulations, policies, or practices of CBP. The COAC will provide recommendations to the Secretary of the Treasury and the Secretary of Homeland Security on improvements to the commercial operations of CBP.

The COAC shall meet at the call of the Secretary of the Treasury and the Secretary of Homeland Security, or at the call of not less than ⅔ of the membership of the COAC. The COAC shall meet at least 4 times each calendar year.

Not later than December 31, 2016, and annually thereafter, the COAC shall submit to the Committee on Finance of the Senate and the Committee on Ways and Means of the House of Representatives a report that describes the activities of the COAC during the preceding fiscal year, and sets forth any recommendations of the COAC regarding the commercial operations of CBP.

Effective on the date on which the Advisory Committee is established, section 9503(c) of the Omnibus Budget Reconciliation Act of 1987 (19 U.S.C. 2071 note) is repealed. Any reference in law to the Advisory Committee on Commercial Operations of the United States Customs Service established under section 9503(c) of the Omnibus Budget Reconciliation Act of 1987 (19 U.S.C. 2071 note) made on or after the date on which the Advisory Committee is established, shall be deemed a reference to the Commercial Customs Operations Advisory Committee.

FOR FURTHER INFORMATION CONTACT: Ms. Wanda Tate, Office of Trade Relations, U.S. Customs and Border Protection, 1300 Pennsylvania Avenue NW., Room 3.5A, Washington, DC 20229; telephone (202) 344-1661; facsimile (202) 325-4290.

Dated: March 29, 2016.
Maria Luisa Boyce,
Senior Advisor for Private Sector Engagement, Office of Trade Relations.

[FR Doc. 2016-07388 Filed 3-31-16; 8:45 am]

BILLING CODE 9111-14-P